DEPARTMENT OF ENERGY

Federal Energy Regulatory Commission

[Docket No. RP00-83-006]

Texas Gas Transmission Corporation; Notice of Compliance Filing

December 7, 2000.

Take notice that on November 13, 2000, Texas Gas Transmission Corporation (Texas Gas) tendered for filing as part of its FERC Gas Tariff, First Revised Volume No. 1, the following tariff sheets, with an effective date of June 14, 2000:

Substitute First Revised Sheet No. 126

Second Substitute First Revised Sheet No. 278

Texas Gas states that the revised tariff sheets are being filed to comply with the Commission's Order issued on October 30, 2000, in Docket No. RP00-83-004 and RP00-83-005, implementing a new summer no-notice (SNS) service on the Texas Gas system.

Texas Gas states that copies of the filing have been served upon Texas Gas's jurisdictional customers, interested state commissions, and those parties appearing on the official service list.

Any person desiring to protest said filing should file a protest with the Federal Energy Regulatory Commission, 888 First Street, NE., Washington, DC 20426, in accordance with section 385.211 of the Commission's Rules and Regulations. All such protests must be filed on or before December 14, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, CFR 385.2001(a)(1)(iii) and the instructions on the Commission's web site at http://www.ferc.us/efi/doorbell.htm.

Linwood A. Watson, Jr.,
Acting Secretary.

[FR Doc. 00-31848 Filed 12-13-00; 8:45 am]

BILLING CODE 6717-01-M